NEIGHBORHOOD REINVESTMENT CORPORATION

Sunshine Act Meetings

TIME AND DATE: 2 p.m., Thursday, October 20, 2022.

PLACE: Via Conference Call.

STATUS: Parts of this meeting will be open to the public. The rest of the meeting will be closed to the public.

MATTERS TO BE CONSIDERED: Regular Board of Directors meeting.

The General Counsel of the Corporation has certified that in his opinion, one or more of the exemptions set forth in the Government in the Sunshine Act, 5 U.S.C. 552b (c)(2) and (4) permit closure of the following portion(s) of this meeting:

• Executive Session

Agenda

I. CALL TO ORDER

II. Sunshine Act Approval of Executive (Closed) Session

III. Executive Session Report from CEO

IV. Executive Session: Report from CFO

V. Executive Session: General Counsel Report

VI. NeighborWorks Compass—Future Planning Discussion

VII. Action Item Approval of Minutes

VIII. Action Item FY2022 HUD Housing Counseling Award

IX. Action Item Revised Whistleblower Policy

X. Action Item Revised Code of Ethical Conduct

XI. Discussion Item September 8, 2022 Audit Committee Report

XII. Discussion Item Report From CIO

XIII. Discussion Item FY2023 Corporate Scorecard

XIV. Discussion Item DC/NYC Office Relocation Status Update

XV. Management Program Background and Updates

XVI. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2022-22232 Filed 10-7-22; 11:15 am]

BILLING CODE 7570-01-P